DEPARTMENT OF ENERGY

Federal Energy Regulatory Commission

[Project No. 2336-094]

Georgia Power Company; Notice of Cancellation of Scoping and Site Review

Take notice that the scoping meetings and site review for the following hydroelectric application are cancelled and will be rescheduled for a future date.

a. Type of Application: Notice of Intent to File License Application for a New License and Commencing Pre-filing Process.

b. Project No.: 2336-094.

c. Dated Filed: July 3, 2018.

d. Applicant: Georgia Power Company (Georgia Power).

e. Name of Project: Lloyd Shoals Hydroelectric Project (Lloyd Shoals Project, or project).

f. Location: The project is located on the Ocmulgee River in Butts, Henry, Jasper, and Newton Counties, Georgia. No federal lands have been identified within the project boundary.

g. Filed Pursuant to: 18 CFR part 5 of the Commission's Regulations.

h. Potential Applicant Contact: Courtenay R. O'Mara, P.E., Hydro Licensing and Compliance Supervisor, Southern Company Generation, 241 Ralph McGill Boulevard NE, BIN 10193, Atlanta, GA 30308-3374; (404) 506-7219, or g2jacksonrel@southernco.com.

i. FERC Contact: Navreet Deo at (202) 502-6304, or by email at navreet.deo@ferc.gov.

j. Scoping Meetings: The Commission's August 20, 2018, Notice of Commencement of Proceedings, and Commission staff's Scoping Document 1, established September 13, 2018, as the date for the project scoping meetings, and September 14, 2018, as the date for the environmental site review. Due to Hurricane Florence, the Commission is postponing the scoping meetings and site review until further notice. As soon as new plans can be established, the Commission will issue a new notice of scoping, along with a modification to the procedural schedule, including revised dates for the scoping meetings and site review. The application will be processed according to the revised schedule.

Dated: September 12, 2018.
Kimberly D. Bose,
Secretary.

[FR Doc. 2018-20685 Filed 9-21-18; 8:45 am]

BILLING CODE 6717-01-P